DEPARTMENT OF THE INTERIOR

Bureau of Land Management

[ID-075-1330-EO]

Smokey Canyon Mine, Idaho; Availability of Final Supplemental Environmental Impact Statement

AGENCY: Bureau of Land Management, Interior.

ACTION: Notice of availability of Final Supplemental Environmental Impact Statement.

SUMMARY: The Bureau of Land Management (BLM) announces the availability of the Final Supplemental Environmental Impact Statement (SEIS) for the Smoky Canyon Mine, Panels B and C. The Smoky Canyon Mine, located in southeast Idaho, is currently operated by the J.R. Simplot Company (Simplot) on Federal phosphate leases administered by BLM within the U.S. Forest Service (USFS) Caribou-Targhee National Forest. The SEIS was prepared by BLM, acting as the lead agency, with USFS as a joint lead agency.

ADDRESSES: Limited numbers of the SEIS are available at the Bureau of Land Management, Pocatello Field Office, 1111 N. 8th Avenue, Pocatello, Idaho 83201, telephone (208) 478-6354.

FOR FURTHER INFORMATION CONTACT: Comments or questions may be directed to Jeff Cundick, SEIS Project Manager, Bureau of Land Management, Pocatello Field Office, 1111 N. 8th Avenue, Pocatello, Idaho 83201. He may be reached by telephone at (208) 478-6354, or by e-mail at Jeff_Cundick@blm.gov.

SUPPLEMENTARY INFORMATION: The SEIS supplements the original Smoky Canyon Phosphate Mine Environmental Impact Statement, prepared in 1982. The SEIS analyzes the direct, indirect, and cumulative impacts associated with a proposal by Simplot to develop and reclaim open pits, haul roads, overburden disposal areas, and related facilities that would be utilized during operation of the B and C Panels at the Smoky Canyon phosphate mine. In particular, it addresses mitigation and monitoring related to potential mobilization of selenium contained in overburden produced by these operations.

Alternatives to the Proposed Action include a No Action Alternative, as well as alternative methods of handling overburden to reduce impacts caused by the proposed mining activities. The Agency Preferred Alternative is the Proposed Action with mitigation measures. The Final SEIS also responds to comments received on the Draft SEIS, which was distributed for public review in July 2001. BLM intends to issue a Record of Decision regarding the proposed mine developments no sooner than 30 days after publication of a Notice of Availability of the SEIS in the Federal Register by the Environmental Protection Agency. USFS will provide BLM with recommendations for those portions of the project that are located in the Caribou-Targhee National Forest.

Dated: March 28, 2002.
Joe Kraayenbrink,
Acting Pocatello Field Office Manager.

[FR Doc. 02-10187 Filed 4-25-02; 8:45 am]

BILLING CODE 4310-GG-P